DEPARTMENT OF TRANSPORTATION

Federal Railroad Administration

Notice of Funding Opportunity for the Consolidated Rail Infrastructure and Safety Improvements Program

AGENCY: Federal Railroad Administration (FRA), Department of Transportation (DOT).

ACTION: Notice of funding opportunity (NOFO or notice).

SUMMARY: This notice details the application requirements and procedures to obtain grant funding for eligible projects under the Consolidated Rail Infrastructure and Safety Improvements Program for Fiscal Year 2022. This notice solicits applications for program funds made available by the Consolidated Appropriations Act, 2022 and the Infrastructure Investment and Jobs Act. This notice also solicits applications for projects under the Magnetic Levitation Technology Deployment Program, funded by the Consolidated Appropriations Act, 2021. The opportunity described in this notice is made available under Assistance Listings Number 20.325, “Consolidated Rail Infrastructure and Safety Improvements,” and Assistance Listings Number 20.318, “Maglev Project Selection—SAFETEA-LU.”

DATES: Applications for funding under this solicitation are due no later than 5 p.m. ET, December 1, 2022. Applications that are incomplete or received after 5 p.m. ET, on December 1, 2022 will not be considered for funding. See section D of this notice for additional information on the application process.

ADDRESSES: Applications must be submitted via www.Grants.gov. Only applicants who comply with all submission requirements described in this notice and submit applications through www.Grants.gov will be eligible for award. For any supporting application materials that an applicant is unable to submit via www.Grants.gov (such as oversized engineering drawings), an applicant may submit an original and two (2) copies to Mr. Douglas Gascon, Office of Policy and Planning, Federal Railroad Administration, 1200 New Jersey Avenue SE, Room W38-212, Washington, DC 20590. However, due to delays caused by enhanced screening of mail delivered via the U.S. Postal Service, applicants are advised to use other means of conveyance (such as courier service) to assure timely receipt of materials before the application deadline.

FOR FURTHER INFORMATION CONTACT: For further information related to this notice, please contact Mr. Douglas Gascon, Office of Policy and Planning, Federal Railroad Administration, 1200 New Jersey Avenue SE, Room W38-212, Washington, DC 20590; email: douglas.gascon@dot.gov; phone: 202-493-0239; or Ms. Deborah Kobrin, Office of Policy and Planning, Federal Railroad Administration, 1200 New Jersey Avenue SE, Room W33-311, Washington, DC 20590; email at deborah.kobrin@dot.gov or 202-420-1281.

SUPPLEMENTARY INFORMATION: Notice to applicants: FRA recommends that applicants read this notice in its entirety prior to preparing application materials. Definitions of key terms used throughout the NOFO are provided in section A(2) below. These key terms are capitalized throughout the NOFO. There are several administrative and specific eligibility requirements described herein with which applicants must comply. Additionally, applicants should note that the required Project Narrative component of the application package may not exceed 25 pages in length.

Table of Contents

A. Program Description

B. Federal Award Information

C. Eligibility Information

D. Application and Submission Information

E. Application Review Information

F. Federal Award Administration Information

G. Federal Awarding Agency Contacts

H. Other Information

A. Program Description

1. Overview

The Consolidated Rail Infrastructure and Safety Improvements (CRISI) Program is authorized under 49 U.S.C. 22907. The purpose of the CRISI Program is to invest in a wide range of projects within the United States to improve railroad safety, efficiency, and reliability; mitigate congestion at both intercity passenger and freight rail chokepoints to support more efficient travel and goods movement; enhance multi-modal connections; and lead to new or substantially improved Intercity Passenger Rail Transportation corridors. This program invests in railroad infrastructure projects that improve safety, support economic vitality (including through small businesses), create good-paying jobs with the free and fair choice to join a union, increase capacity and supply chain resilience, apply innovative technology, and explicitly address climate change, gender equity and racial equity. The purpose of this notice is to solicit applications for the competitive CRISI Program provided in Consolidated Appropriations Act, 2022, division L, title I, Public Law 117-103 (2022 Appropriation) and the advanced appropriation in the Infrastructure Investment and Jobs Act, division J, title II, Public Law 117-58 (2021).

This NOFO also includes funds for eligible projects under the Magnetic Levitation Technology Deployment Program (Maglev Grants Program) and solicits applications for grants for eligible project costs for the deployment of magnetic levitation transportation projects, authorized under and funded in the Consolidated Appropriations Act, 2021, division L, title I, Public Law 116-260 (2021 Appropriation), consistent with the language in section 1307(a) through (c) of Public Law 109-59 (SAFETEA-LU), as amended by section 102 of Public Law 110-244 (Technical Corrections Act) (23 U.S.C. 322 note). Applications for Maglev Grants Program Funding that also seek funding under the CRISI Program will be evaluated consistent with the selection criteria for the Maglev Grants Program.

Discretionary grant awards, funded through the CRISI and Maglev Grants Programs (collectively Programs), will support projects that improve safety, economic strength and global competitiveness, equity, and climate and sustainability, and transformation, consistent with the U.S. Department of Transportation's (DOT) strategic goals.¹

¹ DOT Strategic Plan FY 2022-2026 (March 2022) at https://www.transportation.gov/sites/dot.gov/files/2022-04/US_DOT_FY2022-26_Strategic_Plan.pdf.

The Programs will be implemented, as appropriate and consistent with law, in alignment with the priorities in Executive Order 14052, Implementation of the Infrastructure Investments and Jobs Act (86 FR 64355), which are to invest efficiently and equitably, promote the competitiveness of the U.S. economy, improve job opportunities by focusing on high labor standards, strengthen infrastructure resilience to all hazards including climate change, and to effectively coordinate with State, local, Tribal, and territorial government partners.

In addition to improving safety, FRA seeks to fund projects under the Programs that reduce greenhouse gas emissions and are designed with specific elements to address climate change impacts. Specifically, FRA is looking to award projects that align with the President's greenhouse gas reduction goals, promote energy efficiency, support fiscally responsible land use and efficient transportation design, increase climate resilience, support domestic manufacturing, and reduce pollution.

FRA also seeks to fund projects that address environmental justice, particularly for communities that disproportionally experience climate change-related consequences. Environmental justice, as defined by the Environmental Protection Agency, is the fair treatment and meaningful involvement of all people regardless of race, color, national origin, or income, with respect to the development, implementation, and enforcement of environmental laws, regulations, and policies. As part of the implementation of Executive Order 14008, Tackling the Climate Crisis at Home and Abroad (86 FR 7619), FRA seeks to fund projects that, to the extent possible, target at least 40 percent of benefits towards low-income communities, disadvantaged communities, communities underserved by affordable transportation, or overburdened ² communities. For more information, please consult DOT's disadvantaged communities mapping tool to determine if a proposed project impacts disadvantaged communities: Transportation Disadvantaged Census Tracts (arcgis.com) and at: https://usdot.maps.arcgis.com/apps/dashboards/d6f90dfcc8b44525b04c7ce748a3674a.

² Overburdened Community: Minority, low-income, tribal, or indigenous populations or geographic locations in the United States that potentially experience disproportionate environmental harms and risks. This disproportionality can be as a result of greater vulnerability to environmental hazards, lack of opportunity for public participation, or other factors. Increased vulnerability may be attributable to an accumulation of negative or lack of positive environmental, health, economic, or social conditions within these populations or places. The term describes situations where multiple factors, including both environmental and socio-economic stressors, may act cumulatively to affect health and the environment and contribute to persistent environmental health disparities.

Additionally, FRA seeks to fund projects that proactively address racial equity and barriers to opportunity, including automobile dependence, as a form of barrier, or redress prior inequities and barriers to opportunity. Section E describes racial equity considerations that an applicant can undertake, and FRA will consider, during the review of applications.

In addition to prioritizing projects that address climate change, proactively address racial equity, and reduce barriers to opportunity, FRA will also prioritize projects that support the creation of good-paying jobs with the free and fair choice to join a union and the incorporation of strong labor standards and worker training and placement programs, especially registered apprenticeships and local hire agreements, in development. Projects that incorporate such planning considerations are expected to support a strong economy and labor market. Section E describes job creation and labor considerations that an applicant can undertake, and that FRA will consider, during the review of applications.

Furthermore, consistent with the Department's Rural Opportunities to Use Transportation for Economic Success (ROUTES) initiative, the Department seeks to award funding to rural projects that address deteriorating conditions and disproportionately high fatality rates and transportation costs in rural communities.

Section E of this NOFO, which outlines the grant selection criteria, describes the process for selecting projects that further these goals. Section F.3 describes progress and performance reporting requirements for selected projects.

2. Definitions of Key Terms

Terms defined in this section are capitalized throughout this notice.³

³ The definitions used in this Notice are consistent with FRA's Draft Guidance on Development and Implementation of Railroad Capital Projects, currently available at https://www.regulations.gov (docket number FRA-2022-0035). The Draft Guidance may be subject to change.

a. “Benefit-Cost Analysis” (“BCA”) is a systematic, data-driven, and transparent analysis comparing monetized project benefits and costs, using a no-build baseline and properly discounted present values, including concise documentation of the assumptions and methodology used to produce the analysis; a description of the baseline, data sources used to project outcomes, and values of key input parameters; basis of modeling including spreadsheets, technical memos, etc.; and presentation of the calculations in sufficient detail and transparency to allow the analysis to be reproduced and for sensitivity of results evaluated by FRA. Please refer to the Benefit-Cost Analysis Guidance for Discretionary Grant Programs prior to preparing a BCA at https://www.transportation.gov/office-policy/transportation-policy/benefit-cost-analysis-guidance-discretionary-grant-programs-0. In addition, please also refer to the BCA FAQs on FRA's website for rail specific examples of how to apply the BCA Guidance for Discretionary Grant Programs to CRISI applications.

b. “Capital Project” means a project for acquiring, constructing, improving, or inspecting rail equipment, track and track structures, or a rail facility, including expenses incidental to the acquisition or construction including pre-construction activities (such as designing, engineering, location surveying, mapping, acquiring rights-of-way) and related relocation costs, environmental studies, and all work necessary for FRA to consider the effects of the proposed project under the National Environmental Policy Act; highway-rail grade crossing improvements; communication and signalization improvements; and rehabilitating, remanufacturing or overhauling rail rolling stock and rail facilities.⁴

⁴ For any project that includes purchasing Intercity Passenger Rail rolling stock, applicants are encouraged to use a standardized approach to the procurement of passenger rail equipment, such as the specifications developed by the Next Generation Corridor Equipment Pool Committee or a similar uniform process.

c. “Construction” means the Capital Project Lifecycle Stage when physical production of fixed works and structures, or substantial alterations to such structures or land, or production of vehicles and equipment are accomplished and placed into operational use. Construction includes associated project administration, testing of equipment as appropriate, systems integration testing, workforce training, system certification, procurement of insurance, pre-revenue service start-up testing, and other related costs.

d. “Commuter Rail Passenger Transportation” means short-haul rail passenger transportation in metropolitan and suburban areas usually having reduced fare, multiple rides, and commuter tickets and morning and evening peak period operations, consistent with 49 U.S.C. 24102(3); the term does not include rapid transit operations in an urban area that are not connected to the general railroad system of transportation.

e. “Deployment of Magnetic Levitation Transportation Projects” means, for purposes of this NOFO, transportation systems employing magnetic levitation that would be capable of safe use by the public at a speed in excess of 240 miles per hour.⁵

⁵ This definition only applies to projects eligible under the Maglev Grants Program. These projects may also be eligible for funding under the CRISI program consistent with 49 U.S.C. 22907(c).

f. “Final Design (FD)” means the Capital Project Lifecycle Stage when final design and engineering plans and specifications necessary for the Construction stage is completed, and at a minimum, includes completion of (1) the final design plans, consistent with the applicable environmental decision document, and detailed specifications, (2) an updated Project Management Plan, (3) an updated project schedule, cost estimate, and other necessary plans that may include a financial plan, sufficiently detailed to inform decision makers of the actions required to advance the project through Construction. FD may include early construction or relocations and procure equipment and materials during the final design stage, when such work is permissible under applicable law.

g. “Improvement” means repair or enhancement to existing rail infrastructure, or construction of new rail infrastructure, that results in efficiency of the rail system and the safety of those affected by the system.

h. “Intercity Rail Passenger Transportation” means rail passenger transportation, except commuter rail passenger transportation. See 49 U.S.C. 22901(3). In this notice, “Intercity Passenger Rail Service” and “Intercity Passenger Rail Transportation” are equivalent terms to “Intercity Rail Passenger Transportation.”

i. “Lifecycle Stage” means each of the consecutive stages of a Capital Project as it is developed and implemented that include Systems Planning, project planning, Project Development, Final Design, Construction, and operation. Each sequential stage involves specific activities. FRA evaluates project readiness for a lifecycle stage when considering a project for funding.

j. “National Environmental Policy Act (NEPA)” is a Federal law that requires Federal agencies to analyze and document the environmental impacts of a proposed action in consultation with appropriate Federal, state, and local authorities, and with the public. NEPA classes of action include Environmental Impact Statement (EIS), Environmental Analysis (EA) or Categorical Exclusion (CE). The NEPA class of action depends on the nature of the proposed action, its complexity, and the potential impacts. For purposes of this NOFO, NEPA also includes all related Federal laws and regulations including the Clean Air Act, section 4(f) of the Department of Transportation Act, section 7 of the Endangered Species Act, and section 106 of the National Historic Preservation Act. Additional information regarding FRA's environmental processes and requirements are located at https://www.fra.dot.gov/environment.

k. “Positive Train Control (PTC) system” is defined by 49 CFR 270.5 to mean a system designed to prevent train-to-train collisions, overspeed derailments, incursions into established work zone limits, and the movement of a train through a switch left in the wrong position, as described in 49 CFR part 236, subpart I.

l. “Project Development” means Capital Project Lifecyle Stage during which (1) the environmental review process required under NEPA and other related environmental laws is completed, and the permitting processes is advanced as appropriate; (2) preliminary engineering and other preliminary design is completed to support the environmental review and the preparation of estimates of risk, costs, benefits, and impacts; (3) a project management plan is completed that identifies procurement requirements and strategies; and (4) the detailed project schedule, cost estimate, and other necessary plans that may include a financial plan are completed.

m. “Project Management Plan” means a documented plan that describes how the Capital Project will be implemented, monitored, and controlled to help the applicant effectively, efficiently, and safely deliver the project on-time, within-budget, and at the highest appropriate quality.

n. “Preliminary Engineering (PE)” means engineering design to define a Capital Project, including identification of all environmental impacts, design of all critical project elements at a level sufficient to assure reliable cost estimates and schedules. The PE development process starts with specific project design alternatives that allow for the assessment of a range of rail improvements, specific alignments, and project designs.

o. “Rural Area” means any area that is not within an area designated as an urbanized area by the Bureau of the Census.

p. “Rural Project” means a project in which all or the majority of the project (determined by the geographic location or locations where the majority of the project funds will be spent) is located in a Rural Area.

q. “Significant Reduction in Emissions” as used in this NOFO, results from rehabilitating, remanufacturing, procuring, or overhauling: (1) a Non-Tiered, Tier 0, or Tier 1 locomotive to at least the Tier 2 level; (2) a Tier 2 locomotive to at least a Tier 4 level; or (3) any locomotive to an all-electric, renewable diesel, battery-powered, or other renewable energy locomotive. Non-tiered, Tier 0 and Tier 1 locomotives must be retired if replaced. Emission standards for line-haul and switch locomotives are set by the U.S. Environmental Protection Agency, 40 CFR part 1033, subpart B.

r. “Systems Planning” means the first Lifecycle Stage when planning activities that support the development of a railroad capital plan, a state or regional rail plan, or a corridor service development plan that may identify a Capital Project, are completed. Project planning (e.g., planning specific to a Capital Project such as a rail station or port improvement) is not eligible.

s. “Relocation” means moving a rail line vertically or laterally to a new location. Vertical Relocation refers to raising above the current ground level or sinking below the current ground level of a rail line. Lateral Relocation refers to moving a rail line horizontally to a new location.

B. Federal Award Information

1. Available Award Amount

The total funding available for awards under this NOFO is $1,427,462,902.⁶ The total funding includes $2,000,000 in FY 2021 funding for the Maglev Grant Program, as detailed in this section. Should additional CRISI Program funds become available after the release of this NOFO, FRA may elect to award such additional funds to applications received under this NOFO.

⁶ Of the $1,625,000,000 in CRISI funding made available in the 2022 Appropriation and the advanced appropriation in division J of the Infrastructure Investment and Jobs Act, $46,177,098 will be separately made available for Special Transportation Circumstances grants, $120,860,000 will be set aside for the purposes, and in amounts, specified for Community Project Funding/Congressionally Directed Spending in the table entitled “Community Project Funding/Congressionally Directed Spending” included in the joint explanatory statement, and $32,500,000 will be set aside for award and program oversight conducted by FRA.

Further, of this total, certain funding amounts are set-aside for the following purposes under this NOFO:

a. Rural Area Set-Aside—At least $376,035,000, or 25 percent of amounts appropriated, will be made available for projects in rural areas as required in 49 U.S.C. 22907(g). FRA will consider a project to be in a Rural Area if all or the majority of the project (determined by the geographic location or locations where the majority of the project funds will be spent) is located in a Rural Area.

b. Intercity Passenger Rail Set-Aside—At least $150,000,000 will be made available for Capital Projects that support the development of new Intercity Passenger Rail Service routes including alignments for existing routes, as described in 49 U.S.C. 22907(c)(2) and as required in the 2022 Appropriation;

c. Trespassing Measures Set-Aside—At least $25,000,000 will be made available for the development and implementation of measures to prevent trespassing and reduce associated injuries and fatalities, as described in 49 U.S.C. 22907(c)(11) ⁷ and as required in the 2022 Appropriation; and

⁷ FRA will give preference to projects that are located in the top 25 counties with the most pedestrian trespasser casualties.

d. Magnetic Levitation Deployment Projects Set-Aside—$2,000,000 in 2021 Appropriation funding will be made available for the Deployment of Magnetic Levitation Transportation Projects. In addition, up to $5,000,000 will be made available from the 2022 Appropriation for preconstruction planning activities and capital costs related to the deployment of magnetic levitation transportation projects.

2. Award Size

There are no predetermined maximum dollar thresholds for individual awards. FRA anticipates making multiple awards with the available funding. FRA may not be able to award grants to all eligible applications even if they meet or exceed the stated evaluation criteria (see section E, Application Review Information). FRA strongly encourages applicants to seek funding for the appropriate Lifecycle Stage of a Capital Project, consistent with the application tracks in section C(3)(c) below. Where an application includes multiple Lifecycle Stages of a Capital Project, FRA may decide to only award funds for what it determines is the appropriate Lifecycle Stage. Projects may require more funding than is available. FRA encourages applicants to propose a project that has operational independence, or a component of such project, that can be completed and implemented with funding under this NOFO as a part of the total project cost together with other, non-Federal sources. (See section C(3)(c) for more information).

3. Award Type

FRA will make awards for projects selected under this notice through grant agreements and/or cooperative agreements. Grant agreements are used when FRA does not expect to have substantial Federal involvement in carrying out the funded activity. Cooperative agreements allow for substantial Federal involvement in carrying out the agreed upon investment, including technical assistance, review of interim work products, and increased program oversight. The term “grant” is used throughout this document and is intended to reference funding awarded through a grant agreement or a cooperative agreement. The funding provided under this NOFO will be made available to grantees on a reimbursable basis. Applicants must certify that their expenditures are allowable, allocable, reasonable, and necessary for the approved project before seeking reimbursement from FRA. Additionally, the grantees are expected to expend matching funds at the percentage required in the grant concurrent with Federal funds throughout the life of the project. See an example of standard terms and conditions for FRA grant awards at: https://www.fra.dot.gov/eLib/Details/L19057. This template is subject to revision.

4. Concurrent Applications

DOT and FRA may be concurrently soliciting applications for transportation infrastructure projects for several financial assistance programs. Applicants may submit applications requesting funding for a particular project to one or more of these programs. In the application for funding under this NOFO, applicants must indicate the other program(s) to which they submitted an application for funding the entire project or certain project components, as well as highlight new or revised information in the application responsive to this NOFO that differs from the previously submitted application(s).

C. Eligibility Information

This section of the notice explains applicant eligibility, cost sharing and matching requirements, project eligibility, and project component operational independence. Applications that do not meet the requirements in this section are ineligible for funding. Instructions for submitting eligibility information to FRA are detailed in section D of this NOFO.

1. Eligible Applicants

The following entities are eligible applicants under CRISI:

a. A State (including the District of Columbia).

b. A group of States.

c. An Interstate Compact.

d. A public agency or publicly chartered authority established by 1 or more States.

e. A political subdivision of a State.

f. Amtrak or another rail carrier that provides intercity rail passenger transportation (as rail carrier and intercity rail passenger transportation are defined in section 24102).

g. A Class II railroad or Class III railroad, including any holding company of a Class II railroad or Class III railroad (as those terms are defined in section 20102).

h. An association representing 1 or more railroads described in paragraph (g).

i. A federally recognized Indian Tribe.

j. Any rail carrier or rail equipment manufacturer in partnership with at least 1 of the entities described in paragraphs (a) through (e).

k. The Transportation Research Board and any entity with which it contracts in the development of rail-related research, including cooperative research programs.

l. A University transportation center engaged in rail-related research.

m. A non-profit labor organization representing a class or craft of employees of rail carriers or rail carrier contractors.

Applicants eligible to receive Maglev Grant Program Funds must be a State, States, or an authority designated by one or more States.

Amounts awarded from the 2022 Appropriation for otherwise eligible projects that implement or sustain Positive Train Control Systems are not subject to the limitation in 49 U.S.C. 22905(f) and may therefore be awarded for commuter rail passenger transportation projects. FRA may transfer such projects to the appropriate agency to administer.

The applicant serves as the primary point of contact for the application, and if selected, as the grantee of the grant award. An application may identify entities that are not eligible applicants as project partners.

2. Cost Sharing or Matching

The Federal share of total costs for CRISI Program projects funded under this notice shall not exceed 80 percent. The estimated total cost of a project must be based on the best available information, including engineering studies, studies of economic feasibility, and environmental analyses. Additionally, in preparing estimates of total project costs, applicants may use FRA's cost estimate guidance, “Capital Cost Estimating: Guidance for Project Sponsors,” which is available at: https://www.fra.dot.gov/Page/P0926.

The minimum 20 percent non-Federal share may be comprised of public sector funding (e.g., State or local) or private sector funding. FRA will not consider any Federal financial assistance ⁸ or any non-Federal funds already expended (or otherwise encumbered) toward the matching requirement, unless compliant with 2 CFR part 200. In-kind contributions, including the donation of services, materials, and equipment, may be credited as a project cost, in a uniform manner consistent with 2 CFR 200.306. In addition, applicants may count costs incurred for PE associated with highway-rail grade crossing improvement projects, eligible under and as described in 49 U.S.C. 22907(c)(5), and trespassing prevention projects, as described in 49 U.S.C. 22907(c)(11), as part of the total project costs. Such costs are eligible as non-Federal share or for reimbursement, even if they were incurred before project selection for award, consistent with 49 U.S.C. 22907(h)(4).⁹ Such costs must have been incurred no earlier than November 15, 2021, and must be otherwise compliant with 2 CFR part 200 and the requirements of this CRISI Program.

⁸ See section D(2)(a)(iii) for supporting information required to demonstrate eligibility of Federal funds for use as match.

⁹ FRA interprets the language in 49 U.S.C. 22907(h)(4) to permit FRA to reimburse grantees for Preliminary Engineering costs incurred before the date of project selection, if the costs would be permitted as part of total project costs if incurred after the date of project selection, and if they are consistent with 2 CFR part 200.

If Amtrak or another rail carrier is an applicant under this CRISI Program, Amtrak or the other rail carrier, as applicable, may use ticket and other revenues generated from its operations and other sources to satisfy the non-Federal share requirements.

Funding under this NOFO may not be used for costs that are included in, or used to meet cost sharing or matching requirements of, any other Federally financed award or program. If the applicant is seeking additional funding for a project that has already received Federal financial assistance, costs associated with the scope of work for the existing Federal award are not eligible for funding under this NOFO. Only new scope (e.g., new deliverables) is eligible for funding under this NOFO.

Before applying, applicants should carefully review the principles for cost sharing or matching in 2 CFR 200.306. See section D(2)(a)(iii) for required application information on non-Federal match and section E for further discussion of FRA's consideration of matching funds. FRA will approve pre-award costs consistent with 2 CFR 200.458, as applicable. See section D(6). Cost sharing or matching may be used only for eligible expenses under the Program and are subject to the requirements of the Federal award.

3. Other

a. Eligibility

The following are eligible for funding under this NOFO:

i. Deployment of railroad safety technology, including positive train control and rail integrity inspection systems. PTC examples include: Back office systems; wayside, communications and onboard hardware equipment; software; equipment installation; spectrum; any component, testing and training for the implementation of PTC systems; and interoperability. Maintenance and operating expenses incurred after a PTC system is placed in revenue service are ineligible. Railroad safety technology and rail integrity inspection system examples include: broken rail detection and warning systems; track intrusion systems; and hot box detectors, wheel impact load detectors, and other safety improvements.¹⁰

¹⁰ Only costs for FD and Construction stages and forward are eligible within this eligibility category.

ii. A capital project as defined in section 22901(2), except that a project shall not be required to be in a State rail plan developed under chapter 227.

iii. A capital project identified by the Secretary as being necessary to address congestion or safety challenges affecting rail service.

iv. A capital project identified by the Secretary as being necessary to reduce congestion and facilitate ridership growth in intercity passenger rail transportation along heavily traveled rail corridors.

v. A highway-rail grade crossing improvement project, including installation, repair, or improvement of grade separations, railroad crossing signals, gates, and related technologies, highway traffic signalization, highway lighting and crossing approach signage, roadway improvements such as medians or other barriers, railroad crossing panels and surfaces, and safety engineering improvements to reduce risk in quiet zones or potential quiet zones.

vi. A rail line relocation or improvement project.

vii. A capital project to improve short-line or regional railroad infrastructure.

viii. The preparation of regional rail and corridor service development plans and corresponding environmental analyses.¹¹

¹¹ These are planning activities normally performed during the Systems Planning Lifecycle Stage.

ix. Any project that the Secretary considers necessary to enhance multimodal connections or facilitate service integration between rail service and other modes, including between intercity rail passenger transportation and intercity bus service or commercial air service.

x. The development and implementation of a safety program or institute designed to improve rail safety.

xi. The development and implementation of measures to prevent trespassing and reduce associated injuries and fatalities. Examples include: trespass-related Capital Projects (such as physical barriers, fencing, or equipment), trespassing enforcement activities, and outreach campaigns resulting in trespasser deterrence and prevention.

xii. Any research that the Secretary considers necessary to advance any particular aspect of rail-related capital, operations, or safety improvements.

xiii. Workforce development and training activities, coordinated to the extent practicable with the existing local training programs supported by the Department of Transportation, the Department of Labor, and the Department of Education.¹²

¹² Workforce development, training and related eligible activities are not limited to those coordinated with the existing local training programs supported by the Department of Transportation, the Department of Labor, and the Department of Education.

xiv. Research, development, and testing to advance and facilitate innovative rail projects, including projects using electromagnetic guideways in an enclosure in a very low-pressure environment.

xv. The preparation of emergency plans for communities through which hazardous materials are transported by rail.

xvi. Rehabilitating, remanufacturing, procuring, or overhauling locomotives, provided that such activities result in a significant reduction of emissions.

xvii. Deployment of Magnetic Levitation Transportation Projects.¹³ Project eligibility is further provided in Track 5, as described in section C3(c)(v).

¹³ This category covers projects that are eligible under the Maglev Grants Program. Projects under this category may also be eligible to receive CRISI Program funds, to the extent the application complies with all CRISI Program requirements. Applications for funding under both Programs will be evaluated consistent with the selection criteria for the Maglev Grants Program.

b. Component and Operational Independence

If an applicant requests funding for a component or set of components of a larger project, then the component(s) must be attainable with the award amount and must comply with all eligibility requirements described in section C.

In addition, the component(s) must enable independent analysis and decision making, as determined by FRA, under NEPA (i.e., have independent utility, connect logical termini, and do not restrict the consideration of alternatives for other reasonably foreseeable rail projects).

c. Application Tracks

Applicants are not limited in the number of projects for which they seek funding. FRA expects that applications identify only one of the following tracks for an eligible activity: Track 1—Systems Planning; Track 2—Project Development; Track 3—FD/Construction; Track 4—Research, Safety Programs and Institutes; or Track 5- Deployment of Magnetic Levitation Transportation Projects. FRA strongly encourages applicants to seek funding for the appropriate Lifecycle Stage of a Capital Project, consistent with these application tracks. If an application seeks funding under more than one track, FRA may award funds for only one stage of a Capital Project.

i. Track 1—Systems Planning: Track 1 consists of projects for eligible rail planning. Examples include the technical analyses and associated environmental analyses that support the development of railroad capital plans, state rail plans, regional rail plans, and corridor service development plans, including: Identification of alternatives, rail network planning, market analysis, travel demand forecasting, revenue forecasting, railroad system design, railroad operations analysis and simulation, equipment fleet planning, station and access analysis, conceptual engineering and capital programming, operating and maintenance cost forecasting, capital replacement and renewal analysis, and economic analysis. Project-specific (e.g., planning specific to a Capital Project such as a rail station or port improvements) planning is not an eligible Track 1 project.

ii. Track 2—Project Development: Track 2 consists of projects for eligible Project Development activities. PE examples include: PE drawings and specifications (scale drawings at the 30 percent design level, including track geometry as appropriate); design criteria, schematics and/or track charts that support the development of PE; and work that can be funded in conjunction with developing PE, such as operations modeling, surveying, project work/management plans, preliminary cost estimates, and preliminary project schedules. PE/NEPA projects funded under this NOFO must be sufficiently developed to support FD or Construction activities including with respect to equipment.

iii. Track 3—Final Design (FD)/Construction: Track 3 consists of projects for eligible FD and Construction, and project implementation and deployment activities, including with respect to equipment. Applicants must complete all necessary Planning, Project Development, PE and NEPA requirements for FD/Construction projects. FD funded under this track must resolve remaining uncertainties or risks associated with changes to the design and scope of the Capital Project; address procurement processes; and update and refine the schedule, cost estimate, and plans for financing the project or program to reflect accurately the expected year-of expenditure costs and cash flow projections. Prior to obligation, applicants selected for funding for FD/Construction must demonstrate the following to FRA's satisfaction: (A) PE is completed for the proposed project, resulting in project designs that are reasonably expected to conform to all regulatory, safety, security, and other design requirements, including those under the Americans with Disabilities Act (ADA); (B) NEPA is completed for the proposed project; (C) the applicant(s) has entered into the appropriate agreements with key project partners, including infrastructure-owning entities; and (D) a Project Management Plan is complete and up-to-date for managing the implementation of the proposed project, including the management and mitigation of project risks.

iv. Track 4—Research, Safety Programs and Institutes (Non-Railroad Infrastructure): Track 4 consists of projects not falling within Tracks 1-3, or 5 including workforce development activities, research, safety programs or institutes designed to improve rail safety that clearly demonstrate the expected positive impact on rail safety and research, development and testing to advance innovative rail projects. Sufficient detail must be provided on what the project will accomplish, over what duration as well as the applicant's capability to achieve the proposed outcomes. Funding under this track may be sought for projects extending over multiple fiscal years. Examples include initiatives for improving rail safety, training, preparation of hazardous materials emergency plans, trespass enforcement activities, and outreach campaigns resulting in trespasser deterrence and prevention.

v. Track 5—Deployment of Magnetic Levitation Transportation Projects: Track 5 consists of eligible projects that (1) Involve a segment or segments of a high-speed ground transportation corridor; (2) result in an operating transportation facility that provides a revenue producing service; (3) are approved by the Secretary based on an application submitted to the Secretary of Transportation by a State or authority designated by one or more States. Funding under this NOFO may not be used for costs that are included in, or used to meet cost sharing or matching requirements of, any other Federally financed award or program. If the applicant is seeking additional funding for a project that has already received Federal financial assistance, costs associated with the scope of work for the existing Federal award are not eligible for funding under this NOFO. Only new scope (e.g., new deliverables) is eligible for funding under this NOFO. Eligible project costs are: (1) The capital cost of the fixed guideway infrastructure of a Maglev project including land, piers, guideways, propulsion equipment and other components attached to guideways, power distribution facilities (including substations), control and communications facilities, access roads, and storage, repair, and maintenance facilities and (2) preconstruction planning activities. Eligible project costs exclude new stations and rolling stock, as well as costs incurred solely for land or right-of-way acquisition (even if such acquisition is to secure operational right-of-way). Applicants applying under Track 5, will be evaluated under the additional the Maglev Grants Program criteria, even if also applying for CRISI Program funding. Please see section E.1.b.ii for further details.

d. Rural Project

FRA will consider a project to be in a Rural Area if all or the majority of the project (determined by geographic location(s) where the majority of the project funds will be spent) is located in a Rural Area. However, in the event FRA elects to fund a component of the project, then FRA will reevaluate whether the project is in a Rural Area.

D. Application and Submission Information

1. Address To Request Application Package

Application materials may be accessed at https://www.Grants.gov. Applicants must submit all application materials in their entirety through https://www.Grants.gov no later than 5 p.m. ET, on December 1, 2022. Applicants are strongly encouraged to apply early to ensure that all materials are received before the application deadline. FRA reserves the right to modify this deadline. General information for submitting applications through Grants.gov can be found at: https://www.fra.dot.gov/Page/P0270. FRA is committed to ensuring that information is available in appropriate alternative formats to meet the requirements of persons who have a disability. If you require an alternative version of files provided, please contact Laura Mahoney, Office of the Chief Financial Officer, Federal Railroad Administration, 1200 New Jersey Avenue SE, Washington, DC 20590; email: laura.mahoney@dot.gov; phone: 202-578-9337.

2. Content and Form of Application Submission

FRA strongly advises applicants to read this section carefully. Applicants must submit all required information and components of the application package to be considered for funding. Applications that are not submitted on time or do not contain all required documentation will not be considered for funding. To support the application, applicants may provide other relevant and available optional supporting documentation that may have been developed by the applicant, especially such documentation that evidences completion of appropriate Lifecycle Stage(s) of a Capital Project.

Required documents for an application package are outlined in the checklist below.

a. Project Narrative (see D.2.a).

b. Statement of Work (see D.2.b.i).

c. Benefit-Cost Analysis (See D.2.b.ii).

d. Environmental Compliance Documentation (see D.2.b.iii).

e. SF 424—Application for Federal Assistance.

f. SF 424A—Budget Information for Non-Construction or SF 424C—Budget Information for Construction.

g. SF 424B—Assurances for Non-Construction or SF 424D—Assurances for Construction.

h. FRA F 30—Certifications Regarding Debarment, Suspension and Other Responsibility Matters, Drug-Free Workplace Requirements and Lobbying.

i. FRA F 251—Applicant Financial Capability Questionnaire.

j. SF LLL—Disclosure of Lobbying Activities, if applicable.

a. Project Narrative

This section describes the minimum content required in the Project Narrative of grant applications. The Project Narrative must follow the basic outline below to address the program requirements and assist evaluators in locating relevant information.

I. Cover Page | See D.2.a.i.
II. Project Summary | See D.2.a.ii.
III. Project Funding | See D.2.a.iii.
IV. Applicant Eligibility | See D.2.a.iv.
V. Project Eligibility | See D.2.a.v.
VI. Detailed Project Description | See D.2.a.vi.
VII. Project Location | See D.2.a.vii.
VIII. Evaluation and Selection Criteria | See D.2.a.viii.
IX. Project Implementation and Management | See D.2.a.ix.
X. Planning Readiness for Tracks 2 and 3 (Project Development and FD/Construction) | See D.2.a.x.
XI. Design Readiness for Track 3 (FD/Construction) | See D.2.a.xi.
XII. Environmental Readiness | See D.2.a.xii.
XIII. Strategic Goals | See D.2.a.xiii.

The above content must be provided in a narrative statement submitted by the applicant. The Project Narrative may not exceed 25 pages in length (excluding cover pages, table of contents, and supporting documentation). If possible, applicants should submit supporting documents via website links rather than hard copies. If supporting documents are submitted, applicants must clearly identify the relevant portion of the supporting document with the page numbers of the cited information in the Project Narrative. The Project Narrative must adhere to the following outline.

i. Cover Page: Include a cover page that lists the following elements in either a table or formatted list:

Project Title
Applicant
Federal Funding Requested Under this NOFO | $:
Proposed Non-Federal Match | $: In-Kind:
Does some or all of the proposed Non-Federal Match for the total project cost consist of preliminary engineering costs associated with a Highway-rail Grade Crossing Improvement Project or a trespassing prevention project incurred before project selection? | If yes, how much?
Other Sources of Federal funding, if applicable | Source: $:
Total Project Cost | $
Was a Federal Grant Application Previously Submitted for this Project? | Yes/No. If yes, please specify the program, funding year and project title of the previous application.
City(-ies), State(s) Where the Project is Located
Congressional District(s) Where the Project is Located
Is this a project eligible under 49 U.S.C. 22907(c)(2) that supports the development of new intercity passenger rail service routes including alignments for existing routes? | Yes/No.
Is this a Rural Project? What percentage of the project cost is based in a Rural Area? | Percentage of total project cost:
Is this a project eligible under 49 U.S.C. 22907(c)(11) that supports the development and implementation of measures to prevent trespassing and reduce associated injuries and fatalities? | Yes/No.
If YES to the previous question, is this project located in a county with the most pedestrian trespasser casualties as identified in the Federal Railroad Administration's National Strategy to Prevent Trespassing on Railroad Property? | If possible, quantify.
Is the application seeking consideration for funding under the Maglev Grants Program? | Yes/No.
Is the project currently programmed in: State rail plan, State Freight Plan, TIP, STIP, MPO Long Range Transportation Plan, State Long Range Transportation Plan? | Yes/No. (If yes, please specify in which plans the project is currently programmed and how the plan may be accessed).

ii. Project Summary: Provide a brief 4-6 sentence summary of the proposed project and what the project will entail. Include challenges the proposed project aims to address and summarize the intended outcomes and anticipated benefits that will result from the proposed project.

iii. Project Funding Summary: Indicate in table format the amount of Federal funding requested, the proposed non-Federal match, and total project cost. Identify the source(s) of matching and other funds, and clearly and distinctly reflect these funds as part of the total project cost in the application budget. Specifically, identify the financial support, if any, from impacted rail carriers. Include funding commitment letters outlining funding agreements, as attachments or in an appendix. If Federal funding is proposed as match, demonstrate the applicant's determination of eligibility for such use, and the legal basis for that determination. Also, note if the requested Federal funding under this NOFO or other programs must be obligated or spent by a certain date due to dependencies or relationships with other Federal or non-Federal funding sources, related projects, law, or other factors. If applicable, provide the type and estimated value of any proposed in-kind contributions, as well as substantiate how the contributions meet the requirements in 2 CFR 200.306. Finally, specify whether Federal funding for the project has previously been sought, and identify the Federal program and fiscal year of the funding request(s), as well as highlight new or revised information in the CRISI Program application that differs from the application(s) to other financial assistance programs. If costs incurred for Preliminary Engineering activities, consistent with section C.2 is proposed as match, describe the activities including the date(s) costs were incurred.

Example Project Funding Table:

Task # | Task name/project component | Cost | Percentage of total cost
1
2
Total Project Cost
Federal Funds Received from Previous Grant
Federal Funding Under this NOFO Request
Non-Federal Funding/Match | Cash: In-Kind: Preliminary Engineering costs, consistent with section C.2:
Portion of Non-Federal Funding from the Private Sector.
Please list amounts per source.
Portion of Total Project Costs Spent in a Rural Area
Pending Federal Funding Requests

iv. Applicant Eligibility: Explain how the applicant meets the applicant eligibility criteria outlined in section C of this notice. For public agencies and publicly chartered authorities established by one or more states, the explanation must include citations to the applicable enabling legislation. If the applicant is eligible under 49 U.S.C. 22907(b)(8) as a rail carrier or rail equipment manufacturer in partnership with at least one of the other eligible entities, the applicant should explain the partnership and each entity's contribution to the partnership. For a holding company of a Class II or Class III railroad, the applicant must demonstrate its status as a holding company and percentage of ownership of an operating Class II or III railroad with supporting documentation. For an association representing 1 or more Class II or III railroads, provide the documentation establishing the association and a current membership list.

v. Project Eligibility: Identify which project eligibility category in section C(3) the project is eligible under, and explain how the project meets the project eligibility criteria.

vi. Detailed Project Description: Include a detailed project description that expands upon the brief project summary. This detailed description should provide, at a minimum: additional background on the challenges the project aims to address; the expected outcomes; the expected users and beneficiaries of the project, including all railroad operators; the specific components and elements of the project; and any other information the applicant deems necessary to justify the proposed project. For all projects, applicants must provide information about proposed performance measures, as described in section F(3)(c) and required in 2 CFR 200.301. Further, applicants must provide their plan for taking affirmative steps to employ small businesses consistent with 2 CFR 200.321.

(A) Grade crossing information, if applicable: For any project that includes grade crossing components, provide specific DOT National Grade Crossing Inventory information, including the railroad that owns the infrastructure (or the crossing owner, if different from the railroad), the primary railroad operator, the DOT crossing inventory number, and the roadway at the crossing. Applicants can search for data to meet this requirement at the following link: https://safetydata.fra.dot.gov/OfficeofSafety/default.aspx. In addition, if applicable, applicants should provide the page number in the State Highway-Rail Grade Crossing Action Plan where the grade crossing is referenced. Applicants should specify whether the project will result in the elimination of one or more grade crossings through grade separation or otherwise.

(B) Heavily traveled rail corridor information, if applicable: For any project eligible under the eligibility category that reduces congestion and facilitates ridership growth in Intercity Passenger Rail Transportation, describe how the project is located on a heavily traveled rail corridor.

(C) PTC information, if applicable: For any project that includes deploying PTC systems, applicants must: (1.) Document submission of a Positive Train Control Implementation Plan (PTCIP) to FRA pursuant to either 49 U.S.C. 20157(a) or 49 CFR part 236, subpart I (FRA's PTC regulations); (2.) Document that it is a tenant on one or more host railroads that submitted a PTCIP to FRA; or (3.) Document how the proposed project will assist in the deployment (i.e., installation and/or full implementation) of a PTC system, including whether the PTC technology is being implemented voluntarily or pursuant to the statutory mandate for certain main lines.

(D) Workforce development and training information, if applicable: For any project that includes workforce development, applicants must document to the extent practicable similar existing local training programs supported by the Department of Transportation, the Department of Labor, and/or the Department of Education. The applicant must also (a) describe whether the workforce development project incorporates union representation, and (b) describe any involvement or partnership with existing in-house skills training programs, unions and worker organizations, community colleges and public school districts, community-based organizations, supportive services providers, pre-apprenticeships tied to Registered Apprenticeships, Registered Apprenticeship programs and other labor-management training programs, or other quality workforce training providers. We strongly encourage applicants to outline their plan to recruit, train, and retain a locally hired, diverse workforce.

(E) Trespassing injury and fatality prevention and reduction, if applicable: Provide documentation indicating whether the projects are located in counties with the most pedestrian trespasser casualties as identified in FRA's National Strategy to Prevent Trespassing on Railroad Property, whether the applicant has incorporated the Community Trespass Prevention Program ¹⁴ into project development, whether and how law enforcement agencies will undertake trespass enforcement activities as part of a larger strategy, whether the project would include funding for law enforcement wages to undertake trespass enforcement activities, and how and whether the project targets hot spots identified by geospatial data. If the project includes an outreach campaign to reduce suicide by railroad, applicants must provide a detailed description of the proposed outreach campaign, including (but not limited to) relevant data on rail-related suicides in the project location, the manner and extent to which trespass suicide is expected to be reduced, and examples of prior efforts to address rail-related suicide.

¹⁴ The Community Trespass Prevention Program is a problem-solving model designed to provide a step-by-step approach for dealing with trespassing issues in communities. For more information, see https://railroads.dot.gov/sites/fra.dot.gov/files/fra_net/1265/USCommunityTrespassPreventionGuide_2010F%282-29%29.pdf.

(F) Emissions reductions information, if applicable: For any projects involving rehabilitating, remanufacturing, procuring, or overhauling locomotives resulting in significant reduction of emissions, identify the number of locomotives that will be procured, replaced, or retired. Also, describe the anticipated emissions reductions earned and fuel saving estimates.

(G) Community Emergency Plans, if applicable: For projects involving the preparation of emergency plans for communities through which hazardous materials are transported by railroad, include commitments for coordination by stakeholders including representatives from the chemical manufacturing industry, distributors, shippers, railroads (and other transportation industry and supply chain representatives), emergency response providers (including firefighters, emergency medical technicians hazmat employees, and law enforcement) and federal, state and local governments. Based on information provided by the transporting railroads, identify the hazardous materials transported through the relevant community by hazard class as defined in 49 CFR 173.2. Proposed plans should address all such hazardous materials and may include rationale for focusing on certain hazardous materials if appropriate. Include the emergency types planned for and the approach for developing and communicating the plan. Include a description of proposed training, including frequency (funding may be sought for projects extending multiple years) and attendees and any required materials.

(H) Maglev Grants Program Magnetic Levitation Transportation Projects, if applicable. This detailed description should provide, at a minimum: additional background on the current transportation challenges the project aims to address, the expected users, beneficiaries, and outcomes of the project, and any other information the applicant deems necessary to justify the proposed project. Be specific regarding the relevance or relationship of the proposed project to other investments in the region along the corridor, as well as the operating changes that are anticipated to result from the introduction and integration of Maglev services within existing transportation corridors and assess the major risks (including safety risks and energy consumption) or obstacles to Maglev's successful deployment and operation. Provide information on the variety of operating conditions that would be expected for the project area, which may include a variety of at-grade, elevated and depressed guideway structures, extreme temperatures, and intermodal connections at terminals. Provide a detailed summary of all work completed to date, including any preliminary engineering work, the project's previous accomplishments and funding history including Federal financial assistance, and a chronology of key documents produced and funding events (e.g., grants and financing). An applicant should specify whether it is seeking funding for a project that has already received Federal financial assistance, and if applicable, explain how the new scope proposed to be funded under this NOFO relates to the previous scope.

vii. Project Location: Include geospatial data for the project, as well as a map of the project's location. Geospatial data can be expressed in terms of decimal degrees for latitude and longitude of at least five decimal places of precision, or start and end mileposts designating railroad code and subdivision name. On the map, include the Congressional districts in which the project will take place.

viii. Evaluation and Selection Criteria: Include a thorough discussion of how the proposed project meets all of the evaluation and selection criteria, as outlined in section E of this notice. If an application does not sufficiently address the evaluation criteria and the selection criteria, it is unlikely to be a competitive application.

ix. Project Implementation and Management: Describe proposed project implementation and project management arrangements, including between the applicant, project partners and other stakeholders necessary for project implementation, if any. Describe progress made to date on a Project Management Plan. through the relevant community by hazard class as defined in 49 CFR 173.2. Proposed plans should address all such hazardous materials and may include rationale for focusing on certain

Include descriptions of the expected arrangements for project contracting, contract oversight and control, change-order management, risk management, and conformance to Federal requirements for project progress reporting (see https://www.fra.dot.gov/Page/P0274). Describe past experience in managing and overseeing similar projects.

x. Planning Readiness for Tracks 2 and 3 (Project Development and FD/Construction): Provide information about the Systems Planning and project planning processes that analyzed the investment needs and service objectives, and led to the clear definition of the Capital Project. If applicable, cite sources of this information from a service development plan, State or regional rail plan, or similar planning document where the project has been identified for solving a specific existing transportation problem, and makes the case for investing in the proposed solution.

xi. Design Readiness for Track 3 (FD/Construction): Provide information to demonstrate the maturity of project design including completion of PE and any other necessary preliminary design, including a website link or reference to submitted optional documentation.

xii. Environmental Readiness for Track 3 (FD/Construction): If the NEPA process is complete, an applicant should indicate the date of completion, and provide a website link or other reference to the documents demonstrating compliance with NEPA, which might include a final Categorical Exclusion, Finding of No Significant Impact, or Record of Decision. If the NEPA process is not yet underway, the application should state this. If the NEPA process is underway, but not complete, the application should detail the type of NEPA review underway, where the project is in the process, and indicate the anticipated date of completion of all NEPA-related milestones. If the last agency action with respect to NEPA documents occurred more than three years before the application date, the applicant should describe why the project has been delayed and why NEPA documents have not been updated and include a proposed approach for verifying and, if necessary, updating this material in accordance with applicable NEPA requirements. Additional information regarding FRA's environmental processes and requirements are located at https://www.fra.dot.gov/environment.

xiii. DOT Strategic Goals: Applicants should describe efforts to consider climate change and sustainability impacts, as well as efforts to improve equity and reduce barriers to opportunity in project planning. In addition, applicants should describe how planning activities and project delivery actions advance good-paying, quality jobs and workforce programs and hiring policies that promote workforce inclusion. Additional information about strong labor standards that grant award recipients will be expected to meet are described below in Administrative and National Policy Requirements (section F.2).

b. Additional Application Elements

Applicants must submit the following documents and forms. Note, the Standard OMB Forms needed for theelectronic application process are at www.Grants.gov.

i. A Statement of Work (SOW) addressing the scope, schedule, budget, and performance measures for the proposed project if it were selected for award. The SOW must contain sufficient detail so FRA, and the applicant, can understand the expected outcomes of the proposed work to be performed and can monitor progress toward completing project tasks and deliverables during a prospective grant's period of performance. Applicants must use FRA's standard SOW, schedule, budget, and performance measures templates to be considered for award. The four required templates are labeled Example General Grants—Attachments 2-5 and are located at https://www.fra.dot.gov/Page/P0325. Applications that do not include all four of the grant package templates will be considered incomplete and will not be reviewed. When preparing the budget, the total cost of a project must be based on the best available information as indicated in cited references that include engineering studies, economic feasibility studies, environmental analyses, and information on the expected use of equipment or facilities.

ii. A Benefit-Cost Analysis (BCA), as an appendix to the Project Narrative for each project submitted by an applicant. The BCA must demonstrate in economic terms the merits of investing in the proposed project. The BCA for Track 2—Project Development projects should be for the underlying project, not the PE/NEPA work itself. The project narrative should summarize the project's benefits.

Benefits may apply to existing and new rail users, as well as users of other modes of transportation. In some cases, benefits may be applied to populations in the general vicinity of the project area. Improvements to multimodal connections and shared-use rail corridors may benefit all users involved. Benefits may be quantified for savings in safety costs, reduced costs from disruption of service, maintenance costs, reduced travel time, emissions reductions, and increases in capacity or ability to offer new types of freight or passenger services. Applicants may also describe other categories of benefits that are difficult to quantify such as noise reduction, environmental impact mitigation, improved quality of life, or reliability of travel times. All benefits claimed for the project must be clearly tied to the expected outcomes of the project. Please refer to the Benefit-Cost Analysis Guidance for Discretionary Grant Programs prior to preparing a BCA at https://www.transportation.gov/office-policy/transportation-policy/benefit-cost-analysis-guidance. In addition, please also refer to the BCA FAQs on FRA's website for some rail specific examples of how to apply the BCA Guidance for Discretionary Grant Programs to CRISI funding.

For Tracks 1 and 4—Applicants are required to document project benefits and costs. Estimates of benefits should be presented in monetary terms whenever possible; if a monetary estimate is not possible, the applicant should provide a quantitative estimate (in physical, non-monetary terms, such as crash or employee casualty rates, ridership estimates, emissions levels, energy efficiency improvements, etc.).

iii. Environmental compliance documentation, as applicable, if a website link is not cited in the Project Narrative.

iv. SF 424—Application for Federal Assistance.

v. SF 424A—Budget Information for Non-Construction or SF 424C—Budget Information for Construction.

vi. SF 424B—Assurances for Non-Construction or SF 424D—Assurances for Construction.

vii. FRAF 30—Certifications Regarding Debarment, Suspension and Other Responsibility Matters, Drug-Free Workplace Requirements and Lobbying, located at https://railroads.dot.gov/elibrary/fra-f-30-certifications-regarding-debarment-suspension-and-other-responsibility-matters.

viii. FRA F 251—Applicant Financial Capability Questionnaire, located at https://railroads.dot.gov/elibrary/fra-f-251.

ix. SF LLL—Disclosure of Lobbying Activities, if applicable.

c. Post-Selection Requirements

See section F(2) of this notice for post-selection requirements.

3. Unique Entity Identifier and System for Award Management (SAM)

To apply for funding through Grants.gov, applicants must be properly registered in SAM before submitting an application; provide a valid unique entity identifier in its application; and continue to maintain an active SAM registration as described in detail below. Complete instructions on how to register and submit an application can be found at www.Grants.gov. Registering with Grants.gov is a one-time process; however, it can take up to several weeks for first-time registrants to receive confirmation and a user password. FRA recommends that applicants start the registration process as early as possible to prevent delays that may preclude submitting an application package by the application deadline. Applications will not be accepted after the due date. Delayed registration is not an acceptable justification for an application extension.

FRA may not make a grant award to an applicant until the applicant has complied with all applicable SAM requirements. If an applicant has not fully complied with these requirements by the time the Federal awarding agency is ready to make a Federal award, the Federal awarding agency may determine that the applicant is not qualified to receive a federal award and use that determination as a basis for making a federal award to another applicant. Late applications that are the result of a failure to register or comply with Grants.gov applicant requirements in a timely manner will not be considered. If an applicant has not fully complied with the requirements by the submission deadline, the application will not be considered. To submit an application through Grants.gov, applicants must:

a. Register With SAM at www.SAM.gov

All applicants for Federal financial assistance must maintain current registrations in the SAM database. An applicant must be registered in SAM to successfully register in Grants.gov. The SAM database is the repository for standard information about Federal financial assistance applicants, recipients, and subrecipients. Organizations that have previously submitted applications via Grants.gov are already registered with SAM, as it is a requirement for Grants.gov registration. Please note, however, that applicants must update or renew their SAM registration at least once per year to maintain an active status. Therefore, it is critical to check registration status well in advance of the application deadline. If an applicant is selected for an award, the applicant must maintain an active SAM registration with current information throughout the period of the award, including information on a recipient's immediate and highest-level owner and subsidiaries, as well as on all predecessors that have been awarded a federal contract or grant within the last three years, if applicable. Information about SAM registration procedures is available at www.sam.gov.

b. Obtain a Unique Entity Identifier

On April 4, 2022, the federal government discontinued using DUNS numbers. The DUNS Number was replaced by a new, non-proprietary identifier that is provided by the System for Award Management (SAM.gov). This new identifier is called the Unique Entity Identifier (UEI), or the Entity ID. To find or request a Unique Entity Identifier, please visit www.sam.gov.

c. Create a Grants.gov Username and Password

Applicants must complete an Authorized Organization Representative (AOR) profile on www.Grants.gov and create a username and password. Applicants must use the organization's UEI to complete this step. Additional information about the registration process is available at: https://www.grants.gov/web/grants/applicants/organization-registration.html.

d. Acquire Authorization for Your AOR From the E-Business Point of Contact (E-Biz POC)

The E-Biz POC at the applicant's organization must respond to the registration email from Grants.gov and login at www.Grants.gov to authorize the applicant as the AOR. Please note there can be more than one AOR for an organization.

e. Submit an Application Addressing All Requirements Outlined in This NOFO

If an applicant has trouble at any point during this process, please call the Grants.gov Customer Center Hotline at 1-800-518-4726, 24 hours a day, 7 days a week (closed on Federal holidays). For information and instructions on each of these processes, please see instructions at: https://www.grants.gov/web/grants/applicants/apply-for-grants.html.

4. Submission Dates and Times

Applicants must submit complete applications to www.Grants.gov no later than 5 p.m. ET, December 1, 2022. Applicants will receive a system-generated acknowledgement of receipt. FRA reviews www.Grants.gov information on dates/times of applications submitted to determine timeliness of submissions. Late applications will be neither reviewed nor considered. Delayed registration is not an acceptable reason for late submission. To apply for funding under this announcement, all applicants are expected to be registered as an organization with Grants.gov. Applicants are strongly encouraged to apply early to ensure all materials are received before this deadline.

To ensure a fair competition of limited discretionary funds, the following conditions are not valid reasons to permit late submissions: (1) failure to complete the Grants.gov registration process before the deadline; (2) failure to follow Grants.gov instructions on how to register and apply as posted on its website; (3) failure to follow all the instructions in this NOFO; and (4) technical issues experienced with the applicant's computer or information technology environment.

5. Intergovernmental Review

Intergovernmental Review is required for this program. Applicants must contact their State Single Point of Contact to comply with their state's process under Executive Order 12372.

6. Funding Restrictions

Consistent with 2 CFR 200.458, as applicable, FRA will only approve pre-award costs if such costs are incurred pursuant to the negotiation and in anticipation of the grant agreement and if such costs are necessary for efficient and timely performance of the scope of work. Under 2 CFR 200.458, grantees must seek written approval from FRA for pre-award activities to be eligible for reimbursement under the grant. Activities initiated prior to the execution of a grant or without FRA's written approval may be ineligible for reimbursement or matching contribution. Cost sharing or matching may be used only for authorized Federal award purposes.

Applicants may count costs incurred for Preliminary Engineering associated with highway-rail grade crossing improvement projects, as described in 49 U.S.C. 22907(c)(5), and trespassing prevention projects, as described in 49 U.S.C. 22907(c)(11), as part of the total project costs. Such costs are eligible for reimbursement, even if they were incurred before project selection for award, consistent with 49 U.S.C. 22907(h)(4).¹⁵ Such costs must have been incurred no earlier than November 15, 2021, and must be otherwise compliant with 2 CFR part 200 and the requirements of this CRISI Program.

¹⁵ FRA interprets the language in 49 U.S.C. 22907(h)(4) to permit FRA to reimburse grantees for Preliminary Engineering costs incurred before the date of project selection if the costs would be permitted as part of total project costs if incurred after the date of project selection and are consistent with 2 CFR part 200.

7. Other Submission Requirements

For any supporting application materials that an applicant cannot submit via Grants.gov, such as oversized engineering drawings, an applicant may submit an original and two (2) copies to Douglas Gascon, Federal Railroad Administration, 1200 New Jersey Avenue SE, Washington, DC 20590. However, due to delays caused by enhanced screening of mail delivered via the U.S. Postal Service, FRA advises applicants to use other means of conveyance (such as courier service) to assure timely receipt of materials before the application deadline. Additionally, if documents can be obtained online, explaining to FRA how to access files on a referenced website may also be sufficient.

Note: Please use generally accepted formats such as .pdf, .doc, .docx, .xls, .xlsx and .ppt, when uploading attachments. While applicants may embed picture files, such as .jpg, .gif, and .bmp in document files, applicants should not submit attachments in these formats. Additionally, the following formats will not be accepted: .com, .bat, .exe, .vbs, .cfg, .dat, .db, .dbf, .dll, .ini, .log, .ora, .sys, and .zip.

E. Application Review Information

1. Criteria

a. Eligibility, Completeness and Applicant Risk Review

FRA will first screen each application for applicant and project eligibility (eligibility requirements are outlined in section C of this notice), completeness (application documentation and submission requirements are outlined in section D of this notice), and the 20 percent minimum non-Federal match.

FRA will then consider applicant risk, including the applicant's past performance in developing and delivering similar projects.

b. Evaluation Criteria

FRA will evaluate all eligible and complete applications using the evaluation criteria outlined in this section to determine project benefits and technical merit. In applying the evaluation criteria, FRA will consider the Lifecycle Stage and application track of the project.

i. Project Benefits:

FRA will evaluate the Benefit-Cost Analysis and project benefits of the proposed project for the anticipated private and public benefits relative to the costs of the proposed project and the summary of benefits provided in response to subsection D(2)(b)(ii) including—

(A) Effects on system and service performance;

(B) Effects on safety, competitiveness, reliability, trip or transit time, and resilience;

(C) Efficiencies from improved integration with other modes; and

(D) Ability to meet existing or anticipated demand.

ii. Technical Merit:

FRA will evaluate application information for the degree to which—

(A) The tasks and subtasks outlined in the SOW are appropriate to achieve the expected outcomes of the proposed project.

(B) Applications indicate strong project readiness and meet requirements under the project track(s) designated by the applicant.

(C) The technical qualifications and experience of key personnel proposed to lead and perform the technical efforts, and the qualifications of the primary and supporting organizations to fully and successfully execute the proposed project within the proposed timeframe and budget are demonstrated.

(D) The proposed project's business plan considers potential private sector participation in the financing, construction, or operation of the proposed project.

(E) The applicant has, or will have the legal, financial, and technical capacity to carry out the proposed project; satisfactory continuing control over the use of the equipment or facilities; and the capability and willingness to maintain the equipment or facilities.

(F) The degree to which the applicant and project deploy innovative technology, encourage innovative approaches to project delivery, and incentivize the use of innovative financing.

(G) The proposed project is consistent with planning guidance and documents set forth by DOT, including those required by law or State rail plans developed under title 49, United State Code, chapter 227.

For projects identified as Deployment of Magnetic Levitation Transportation Projects (Track 5), FRA will also evaluate application information for the degree to which—

(A) The project would feasibly integrate Maglev systems with conventional rail systems, such as establishing efficient connections and transfers.

(B) The funds awarded under this section would result in investments that are beneficial not only to the Maglev project, but also to other current or near-term transportation projects.

(C) The project demonstrates: (a) The potential for public-private partnerships and (b) that the project will stand alone as a complete, self-sustaining operation where fully allocated operating expenses of the Maglev service are projected to be offset by revenues attributable to the service.

(D) The financial commitment to the construction of the proposed project from both non-Federal public and private sources is demonstrated.

(E) The project demonstrates coordination and consistency with any applicable ongoing or completed environmental and planning studies for passenger rail on or connecting to the geographic route segment being proposed for Maglev investment.

(F) The project will successfully operate in the variety of Maglev operating conditions which are to be expected in the United States.

(G) The project may feasibly be capable of safe use by the public at a speed in excess of 240 miles per hour.

c. Selection Criteria

In addition to the eligibility and completeness review and the evaluation criteria outlined above, the FRA will apply the following selection criteria:

i. FRA will give preference to the following:

(A) A proposed project for which the proposed Federal share of total project costs does not exceed 50 percent; ¹⁶

¹⁶ This preference applies to funds made available by IIJA, division J. However, 49 U.S.C. 22907(e)(1)(A) does not apply to projects funded by the 2022 Appropriation. Because the preference still applies to the IIJA funding, FRA encourages applicants to identify sufficient non-Federal contribution so that the Federal share does not exceed 50 percent.

(B) Projects for which the net benefits of the grant funds will be maximized considering the Benefit-Cost Analysis, including anticipated private and public benefits relative to the costs of the proposed project, and factoring in the other considerations in 49 U.S.C. 22907(e)(2); ¹⁷ and

¹⁷ These benefits may include the effects on system and service performance, including measures such as improved safety, competitiveness, reliability, trip or transit time, resilience, efficiencies from improved integration with other modes, the ability to meet existing or anticipated demand, and any other benefits.

(C) For projects eligible under 49 U.S.C. 22907(c)(11), projects for the development and implementation of measures to prevent trespassing and reduce associated injuries and fatalities that are located in the top 25 counties with the most pedestrian casualties.¹⁸ In addition, FRA is strongly interested in applications that incorporate a comprehensive approach to project development such as is described in FRA's Community Trespass Prevention Program, and will prioritize selections for those applications that involve multiple project partners and include infrastructure improvements in combination with a safety program focused on enforcement and outreach.

¹⁸ FRA has identified these 25 counties through https://railroads.dot.gov/safety-data, which includes the following counties: California—Los Angeles, San Bernardino, Kern, San Joaquin, Alameda, Contra Costa, Fresno, Riverside, Sacramento, Santa Clara, Orange, Stanislaus, San Diego; Florida—Palm Beach, Broward; Illinois—Cook; Nevada—Clark; Oregon—Multnomah; Pennsylvania—Philadelphia; Tennessee—Davidson; Texas—Tarrant, Dallas, Bexar, Harris; and Washington—King.

ii. Strategic Goals:

After the eligibility and completeness review and the evaluation criteria outlined in this section, FRA will then consider the extent to which the projects address the following DOT Strategic Goals:

(A) Safety. FRA will assess the project's ability to foster a safe transportation system for the movement of goods and people, consistent with the Department's strategic goal to reduce transportation-related fatalities and serious injuries across the transportation system. Such considerations will include, but are not limited to, the extent to which the project improves safety at highway-rail grade crossings, reduces incidences of rail-related trespassing, upgrades infrastructure to achieve a higher level of safety, and uses an appropriately trained workforce.

(B) Equitable Economic Strength and Improving Core Assets.

1. Infrastructure Investment and Job Creation. In support of Executive Order 14025, Worker Organizing and Empowerment (86 FR 22829), and Executive Order 14052, Implementation of the Infrastructure Investment and Jobs Act (86 FR 64335), FRA will assess the project's ability to contribute to economic progress stemming from infrastructure investment and associated job creation in the industry. Such considerations will include, but are not limited to, the extent to which the project results in long-term job creation by supporting good-paying construction and manufacturing jobs directly related to the project with free and fair choice to join a union, such as through the use of project labor agreements, pre-apprenticeships tied to Registered Apprenticeships, Registered Apprenticeships, community-benefit agreements, and local hiring provisions, or other targeted preferential hiring requirements, or other similar standards or protections; invests in vital infrastructure assets and provides opportunities for families to achieve economic security through rail industry employment.

2. Support Resilient Supply Chains & Economic Opportunity. Projects will also be assessed by their ability to promote the efficiency and resilience of supply chains by increasing freight rail capacity, reducing congestions, alleviating bottlenecks, and increasing multimodal connections. In addition, projects are encouraged to consider the ability of the project to provide greater access to economic opportunity to residents through greater connections to jobs, commerce, and educational opportunities.

(C) Equity and Barriers to Opportunity. In support of Executive Order 13985, Advancing Racial Equity and Support for Underserved Communities Through the Federal Government (86 FR 7009) and Executive Order 14008, Tackling the Climate Crisis at Home and Abroad (86 FR 7619), FRA will assess the project's ability to address equity and barriers to opportunity, to the extent possible within the program and consistent with law. Such considerations will include, but are not limited to, the applicant's plan for using small businesses to complete its project, the extent to which the project improves or expands transportation options for underserved communities, mitigates the safety risks and detrimental quality of life effects that rail lines can have on communities especially those communities that might have been historically disconnected due to the railroad infrastructure, and expands workforce development and career pathway opportunities to foster a more diverse rail industry. This will also include community engagement efforts already taken or planned, the extent to which engagement efforts are designed to reach impacted communities, whether engagement is accessible for persons with disabilities or limited English proficient persons within the impacted communities, and how community feedback is taken into account in decision-making.

(D) Climate Change and Sustainability. In support of E.O. 14008, “Tackling the Climate Crisis at Home and Abroad,” FRA will assess the project's ability to reduce the harmful effects of climate change and anticipate necessary improvements to prepare for extreme weather events. Such considerations will include, but are not limited to, the extent to which the project reduces emissions, promotes energy efficiency, increases resiliency, and recycles or redevelops existing infrastructure.

(E) Transformation. FRA will assess the project's ability to expand and improve the nation's rail network, which needs to balance new infrastructure for increased capacity with proper maintenance of aging assets. Such considerations will include, but are not limited to, the extent to which the project adds capacity to congested corridors, improve supply chain resilience, and ensures assets will be improved to a state of good repair.

1. Review and Selection Process

FRA will conduct a four-part application review process, as follows:

a. Screen applications for applicant and project eligibility, completeness, the minimum match, and applicant risk including past performance in developing and delivering similar projects;

b. Apply evaluation criteria to remaining applications (completed by technical panels);

c. Apply selection criteria and recommend initial selection of projects for the FRA Administrator's review (completed by a Senior Review Team, which includes senior leadership from the Office of the Secretary and FRA); and

d. Select recommended awards for the Secretary's or his designeedesignee's review and approval (completed by the FRA Administrator).

2. Reporting Matters Related to Integrity and Performance

Before making a Federal award with a total amount of Federal share greater than the simplified acquisition threshold of $250,000 (see 2 CFR 200.88 Simplified Acquisition Threshold), FRA will review and consider any information about the applicant that is in the designated integrity and performance system accessible through SAM (currently the Federal Awardee Performance and Integrity Information System (FAPIIS)). See 41 U.S.C. 2313.

An applicant, at its option, may review information in the designated integrity and performance systems accessible through SAM and comment on any information about itself that a federal awarding agency previously entered and is currently in the designated integrity and performance system accessible through SAM.

FRA will consider any comments by the applicant, in addition to the other information, in making a judgment about the applicant's integrity, business ethics, and record of performance under Federal awards when completing the review of risk posed by applicants as described in 2 CFR 200.205.

F. Federal Award Administration Information

1. Federal Award Notice

FRA will announce applications selected for funding in a press release and on FRA's website after the application review period. This announcement is FRA's notification to successful and unsuccessful applicants alike. FRA will contact applicants with successful applications after announcement with information and instructions about the award process. This notification is not an authorization to begin proposed project activities. FRA requires satisfaction of applicable requirements by the applicant and a formal agreement signed by both the grantee and the FRA, including an approved scope, schedule, and budget, before obligating the grant. See an example of standard terms and conditions for FRA grant awards at https://railroads.fra.dot.gov/elibrary/award-administration-and-grant-conditions. This template is subject to revision.

2. Administrative and National Policy Requirements

In connection with any program or activity conducted with or benefiting from funds awarded under this notice, grantees must comply with all applicable requirements of Federal law, including, without limitation: the Constitution of the United States; the relevant authorization and appropriations, the conditions of performance, nondiscrimination requirements, and other assurances made applicable to the award of funds; and applicable Federal financial assistance and contracting principles promulgated by the Office of Management and Budget (OMB). In complying with these requirements, grantees, in particular, must ensure that no concession agreements are denied, or other contracting decisions made on the basis of speech or other activities protected by the First Amendment. If FRA determines that a grant recipient has failed to comply with applicable Federal requirements, FRA may terminate the award of funds and disallow previously incurred costs, requiring the grantee to reimburse any expended award funds. See an example of standard terms and conditions for FRA grant awards at https://railroads.fra.dot.gov/elibrary/award-administration-and-grant-conditions. This template is subject to revision.

Examples of administrative and national policy requirements include: 2 CFR part 200; procurement standards at 2 CFR part 200 subpart D—Procurement Standards; 2 CFR 1207.317 and 2 CFR 200.401; compliance with Federal civil rights laws and regulations; disadvantaged business enterprises requirements; debarment and suspension requirements; drug-free workplace requirements; FRA's and OMB's Assurances and Certifications; Americans with Disabilities Act; safety requirements; NEPA; environmental justice requirements; compliance with 49 U.S.C. 24905(c)(2) for the duration of NEC Projects; and 2 CFR 200.315, governing rights to intangible property. Projects assisted with funds provided through the Maglev Grants Program are subject to 49 U.S.C. 5333(a). Unless otherwise stated in statutory or legislative authority, or appropriations language, all financial assistance awards follow the Uniform Administrative Requirements, Cost Principles and Audit Requirements for Federal Awards at 2 CFR part 200 and 2 CFR part 1201.

Assistance under this NOFO is subject to the grant conditions in 49 U.S.C. 22905, including protective arrangements that are equivalent to the protective arrangements established under section 504 of the Railroad Revitalization and Regulatory Reform Act of 1976 (45 U.S.C. 836) with respect to employees affected by actions taken in connection with the project to be financed in whole or in part by grants subject to 49 U.S.C. 22905, the provision deeming operators rail carriers and employers for certain purposes, and grantee agreements with railroad right-of-way owners for projects using railroad rights-of-way (see D.2.b.xi).¹⁹

¹⁹ FRA has posted draft guidance to grantees on implementing protective arrangements at https://www.govinfo.gov/content/pkg/FR-2022-03-04/pdf/2022-04530.pdf to assist grantees implementing the protective arrangements; and answers to frequently asked questions intended to assist grantees subject to the requirements of 49 U.S.C. 22905(c)(1) at https://railroads.dot.gov/elibrary/frequently-asked-questions-about-rail-improvement-grant-conditions-under-49-usc-ss-22905c1.

Projects selected under this NOFO for commuter rail passenger transportation for positive train control projects may be transferred to the Federal Transit Administration for grant administration at the Secretary's discretion. If such a project is transferred to the Federal Transit Administration, applicants will be required to comply with chapter 53 of title 49 of the United States Code.

Projects that have not sufficiently considered climate change and sustainability in their planning, as determined by FRA, will be required to do so before receiving funds for construction, consistent with Executive Order 14008, Tackling the Climate Crisis at Home and Abroad (86 FR 7619). In the grant agreement, recipients will be expected to describe activities they have taken, or will take prior to obligation of construction funds that addresses climate change and environmental justice (EJ). Activities that address climate change include, but are not limited to, demonstrating: the project will result in significant greenhouse gas emissions reductions; the project supports emissions reductions goals in a Local/Regional/State plan; and the project primarily focuses on funding for state of good repair and clean transportation options, including public transportation, walking, biking, micro-mobility. Activities that address EJ include, but are not limited to: basing project design on the results of a proven EJ screening tool (developed by another Federal agency such as the EPA,²⁰ a state agency, etc.); conducting enhanced, targeted outreach to EJ communities; considering EJ in alternatives analysis and final project design; and supporting a modal shift in freight or passenger movement to reduce emissions or reduce induced travel demand.

²⁰ For more information regarding the EPA EJ screening tool see https://www.epa.gov/ejscreen.

Projects must consider and address equity and barriers to opportunity in their planning, as determined by FRA, and as a condition of receiving construction funds, consistent with Executive Order 13985, Advancing Racial Equity and Support for Underserved Communities Through the Federal Government (86 FR 7009). The grant agreement should include the grantee's description of activities they have taken, or will take prior to obligation of construction funds that addresses equity and barriers to opportunity. These activities may include, but are not limited to: completing an equity impact analysis for the project; adopting an equity and inclusion program/plan; conducting meaningful public engagement to ensure underserved communities are provided an opportunity to be involved in the planning process and is conducted in a manner that is consistent with title VI requirements; including investments that either redress past barriers to opportunity or that proactively create new connections and opportunities for underserved communities; hiring from local communities; improving access to or providing economic growth opportunities for underserved, overburdened, or rural communities; or addressing historic or current inequitable air pollution or other environmental burdens and impacts. While not a selection criteria, to the extent the project includes or is part of an station area, the Department encourages project sponsors to consider how the submitted project could develop or facilitate economic development, including commercial and residential development that enhance the economic vitality and competitiveness of the surrounding neighborhood and region.

To the extent that applicants have not sufficiently considered job quality and labor rights in their planning, as determined by the Department of Labor, the applicants will be required to do so before receiving funds for construction, consistent with Executive Order 14025, Worker Organizing and Empowerment (86 FR 22829), and Executive Order 14052, Implementation of the Infrastructure Investment and Jobs Act (86 FR 64335). Specifically, the project planning activities and project delivery actions must support: (a) strong labor standards and the free and fair choice to join a union,²¹ including project labor agreements, local hire agreements,²² distribution of workplace rights notices, and use of an appropriately trained workforce; (b) support of high-quality workforce development programs, including registered apprenticeship, labor-management training programs, and supportive services to help train, place, and retain people in good-paying jobs and apprenticeships; and (c) comprehensive planning and policies to promote hiring and inclusion for all groups of workers, including through the use of local and economic hiring preferences, linkage agreements with workforce programs that serve these underrepresented groups, and proactive plans to prevent harassment.

²¹ Federal funds may not be used to support or oppose union organizing, whether directly or as an offset for other funds.

²² IIJA division B 25019 provides authority to use geographical and economic hiring preferences, including local hire, for construction jobs, subject to any applicable State and local laws, policies, and procedures.

Consistent with E.O. 11246, Equal Employment Opportunity (30 FR 12319, and as amended), all federally assisted contractors are required to make good faith efforts to meet the goals of 6.9% of construction project hours being performed by women, in addition to goals that vary based on geography for construction work hours and for work being performed by people of color. The U.S. Department of Labor's Office of Federal Contract Compliance Programs (OFCCP) has a Mega Construction Project Program through which it engages with project sponsors as early as the design phase to help promote compliance with non-discrimination and affirmative action obligations. Through the program, OFCCP offers contractors and subcontractors extensive compliance assistance, conducts compliance evaluations, and helps to build partnerships between the project sponsor, prime contractor, subcontractors, and relevant stakeholders. OFCCP will identify projects that receive an award under this notice and are required to participate in OFCCP's Mega Construction Project Program from a wide range of federally assisted projects over which OFCCP has jurisdiction and that have a project cost above $35 million. DOT will require project sponsors with costs above $35 million that receive awards under this funding opportunity to partner with OFCCP, if selected by OFCCP, as a condition of their DOT award. Under that partnership, OFCCP will ask these project sponsors to make clear to prime contractors in the pre-bid phase that project sponsor's award terms will require their participation in the Mega Construction Project Program. Additional information on how OFCCP makes their selections for participation in the Mega Construction Project Program is outlined under “Scheduling” on the Department of Labor website: https://www.dol.gov/agencies/ofccp/faqs/construction-compliance.

Critical Infrastructure Security and Resilience

It is the policy of the United States to strengthen the security and resilience of its critical infrastructure against both physical and cyber threats, consistent with Presidential Policy Directive 21—Critical Infrastructure Security and Resilience. Each applicant selected for Federal funding under this notice must demonstrate, prior to signing of the grant agreement, efforts to consider and address physical and cyber security risks relevant to the transportation mode and type and scale of the project. Projects that have not appropriately considered and addressed physical and cyber security and resilience in their planning, design, and project oversight, as determined by the Department and the Department of Homeland Security, will be required to do so before receiving funds for construction, consistent with the cybersecurity performance goals for critical infrastructure and control systems directed by the National Security Presidential Memorandum on Improving Cybersecurity for Critical Infrastructure Control Systems, found at https://www.cisa.gov/cpgs.

Domestic Preference Requirements

Assistance under this NOFO is subject to the Buy America requirements in 49 U.S.C. 22905(a) and the Build America, Buy America Act, Public Law 117-58, sections 70901-52. In addition, as expressed in Executive Order 14005, Ensuring the Future Is Made in All of America by All of America's Workers (86 FR 7475), it is the policy of the executive branch to maximize, consistent with law, the use of goods, products, and materials produced in, and services offered in, the United States. FRA expects all applicants to comply with that requirement without needing a waiver. However, to obtain a waiver, a recipient must be prepared to demonstrate how they will maximize the use of domestic goods, products, and materials in constructing their project.

Civil Rights and Title VI

Recipients of Federal transportation funding will be required to comply fully with title VI of the Civil Rights Act of 1964 and implementing regulations (49 CFR 21), the Americans with Disabilities Act of 1990 (ADA), section 504 of the Rehabilitation Act of 1973, and all other civil rights requirements. The Department's and FRA's Office of Civil Rights may provide resources and technical assistance to recipients to ensure full and sustainable compliance with Federal civil rights requirements.

3. Reporting

a. Progress Reporting on Grant Activity

Each applicant selected for a grant will be required to comply with all standard FRA reporting requirements, including quarterly progress reports, quarterly Federal financial reports, and interim and final performance reports, as well as all applicable auditing, monitoring and close out requirements. Reports must be submitted electronically. Pursuant to 2 CFR 170.210, non-Federal entities applying under this NOFO must have the necessary processes and systems in place to comply with the reporting requirements should they receive Federal funding.

b. Additional Reporting

Applicants selected for funding are required to comply with all reporting requirements in the standard terms and conditions for FRA grant awards including 2 CFR 180.335 and 2 CFR 180.350. If the total value of a selected applicant's currently active grants, cooperative agreements, and procurement contracts from all Federal awarding agencies exceeds $10,000,000 for any period of time during the period of performance of this Federal award, then the applicant during that period of time must maintain the currency of information reported SAM that is made available in the designated integrity and performance system (currently the Federal Awardee Performance and Integrity Information System (FAPIIS)) about civil, criminal, or administrative proceedings described in paragraph 2 of this award term and condition. This is a statutory requirement under section 872 of Public Law 110-417, as amended (41 U.S.C. 2313). As required by section 3010 of Public Law 111-212, all information posted in the designated integrity and performance system on or after April 15, 2011, except past performance reviews required for Federal procurement contracts, will be publicly available.

c. Performance and Program Evaluation

Recipients and subrecipients are also encouraged to incorporate program evaluation, including associated data collection activities from the outset of their program design and implementation, to meaningfully document and measure their progress towards meeting an agency priority goal(s). Title I of the Foundations for Evidence-Based Policymaking Act of 2018 (Evidence Act), Public Law 115-435 (2019) urges Federal awarding agencies and Federal assistance recipients and subrecipients to use program evaluation as a critical tool to learn, to improve equitable delivery, and to elevate program service and delivery across the program lifecycle. Evaluation means “an assessment using systematic data collection and analysis of one or more programs, policies, and organizations intended to assess their effectiveness and efficiency.” 5 U.S.C. 311. Credible program evaluation activities are implemented with relevance and utility, rigor, independence and objectivity, transparency, and ethics (OMB Circular A-11, part 6 section 290).

For grant recipients receiving an award, evaluation costs are allowable costs (either as direct or indirect), unless prohibited by statute or regulation, and such costs may include the personnel and equipment needed for data infrastructure and expertise in data analysis, performance, and evaluation (2 CFR part 200).

d. Performance Reporting

Each applicant selected for funding must collect information and report on the project's performance using measures mutually agreed upon by FRA and the grantee to assess progress in achieving strategic goals and objectives. Examples of some rail performance measures for CRISI Funding are listed in the table below. The applicable measure(s) will depend upon the project activities. Applicants requesting funding for the acquisition of rolling stock must integrate at least one equipment/rolling stock performance measure, consistent with the application materials and program goals.

Rail measures | Unit measured | Measurement period | Measurement frequency | Primary strategic goal | Secondary strategic goal | Definition
Slow Order Miles | Miles |  | Quarterly | State of Good Repair | Safety | The number of miles per quarter within the project area that have temporary speed restrictions (“slow orders”) imposed due to track condition. This is an indicator of the overall condition of track. This measure can be used for projects to rehabilitate sections of a rail line since the rehabilitation should eliminate, or at least reduce the slow orders upon project completion.
Gross Ton | Gross Tons |  | Quarterly | Economic Competitiveness | State of Good Repair | The annual gross tonnage of freight shipped in the project area. Gross tons include freight cargo minus tare weight of the rail cars. This measures the volume of freight a railroad ships in a year. This measure can be useful for projects that are anticipated to increase freight shipments.
Rail Track Grade Separation | Count | Could be based on daily traffic counts (for 1-5 days) or otherwise estimated | Quarterly | Economic Competitiveness | Safety | The number of automobile crossings that are eliminated at an at-grade crossing as a result of a new grade separation.
Passenger Counts | Count |  | Quarterly | Economic Competitiveness | State of Good Repair | Count of the passenger boardings and alightings at stations within the project area.
Travel Time | Time/Trip |  | Quarterly | Economic Competitiveness | Quality of Life | Point-to-point travel times between pre-determined station stops within the project area. This measure demonstrates how track improvements and other upgrades improve operations on a rail line. It also helps make sure the railroad is maintaining the line after project completion.
Track weight capacity | Lbs |  | Annual | State of Good Repair | Economic Competitiveness | If a project is upgrading a line to accommodate heavier rail cars (typically an increase from 263,000 lb. rail cars to 286,000 lb. rail cars.)
Track Miles | Miles |  | Annual | State of Good Repair | Economic Competitiveness | The number of track miles that exist within the project area. This measure can be beneficial for projects building sidings or sections of additional main line track on a railroad.
Pedestrian Trespasser Incidents ²³ | Count | Duration of the Project Performance Period and one year before and one year after | Annual | Safety |  | The number of trespasser casualties that are eliminated. This measure can be helpful to identify the success of the measures taken to prevent trespasser fatalities.
Equity in Contracting | Count of small businesses contracted | Duration of the Project Performance Period | Annual | Economic Competitiveness |  | Contracting with small and minority businesses, women's business enterprises, and labor surplus area firms (each a “Small Business”) for the Project].
Fuel Savings/Emissions | Gallons |  | Annual | Environmental Sustainability |  | The total gallons of fuel saved as a result of rehabilitating, remanufacturing, procuring, or overhauling locomotives.

G. Federal Awarding Agency Contacts

²³ Trespasser incidents occur when a trespasser is injured, fatally or otherwise, on railroad rights-of-way regardless of whether such injury is train or rail equipment related.

For further information related to this notice, please contact Douglas Gascon, Office of Policy and Planning, Federal Railroad Administration, 1200 New Jersey Avenue SE, Room W38-212, Washington, DC 20590; douglas.gascon@dot.gov; 202-493-0239; or Ms. Deborah Kobrin, Office of Policy and Planning, Federal Railroad Administration, 1200 New Jersey Avenue SE, Room W33-311, Washington, DC 20590; email at deborah.kobrin@dot.gov or 202-420-1281.

H. Other Information

All information submitted as part of or in support of any application shall use publicly available data or data that can be made public and methodologies that are accepted by industry practice and standards, to the extent possible. If the application includes information the applicant considers to be a trade secret or confidential commercial or financial information, the applicant should do the following: (1) Note on the front cover that the submission “Contains Confidential Business Information (CBI)”; (2) mark each affected page “CBI”; and (3) highlight or otherwise denote the CBI portions.

The DOT regulations implementing the Freedom of Information Act (FOIA) are found at 49 CFR part 7 subpart C—Availability of Reasonably Described Records under the Freedom of Information Act and sets forth rules for FRA to make requested materials, information, and records publicly available under FOIA. Unless prohibited by law and to the extent permitted under the FOIA, contents of application and proposals submitted by successful applicants may be released in response to FOIA requests.

The Department may share application information within the Department or with other Federal agencies if the Department determines that sharing is relevant to the respective program's objectives.

Issued in Washington, DC.
Amitabha Bose,
Administrator.

[FR Doc. 2022-19004 Filed 9-1-22; 8:45 am]

BILLING CODE 4910-06-P